DEPARTMENT OF COMMERCE

National Institute of Standards and Technology

Advanced Technology Program Advisory Committee

AGENCY: National Institute of Standards and Technology, Department of Commerce.

ACTION: Postponement of partially closed meeting.

SUMMARY: The previously scheduled Advanced Technology Program (ATP) Advisory Committee meeting is postponed.

DATES: The meeting previously scheduled for October 29, 2002, from 8:45 a.m. to 3:45 p.m. is postponed. The open portion of the meeting was to occur from 9:50 a.m. to 2:30 p.m.

FOR FURTHER INFORMATION CONTACT: Carolyn J. Peters, National Institute of Standards and Technology, Gaithersburg, Maryland 20899-1004, telephone number (301) 975-5607 or by e-mail at carolyn.peters@nist.gov.

SUPPLEMENTARY INFORMATION: On October 15, 2002, NIST announced in the Federal Register (67 FR 63622) a partially closed meeting of the ATP Advisory Committee. The meeting was scheduled for October 29, 2002, from 8:45 a.m. to 3:45 p.m. at NIST, Lecture Room B, Administration Building, Gaithersburg, Maryland 20899.

The meeting is being postponed due to budget restraints during the Continuing Resolution and will be rescheduled at a later date.

The purpose of the meeting was to review and make recommendations regarding general policy for the ATP, its organization, its budget, and its programs within the framework of applicable national policies as set forth by the President and the Congress. The agenda included an ATP update, a panel discussion from the international community on technology programs, an update on the ATP competition and a presentation on emerging knowledge about ATP's impact on firm behavior, collaboration, etc.

Dated: October 23, 2002.
Karen H. Brown,
Deputy Director.

[FR Doc. 02-27633 Filed 10-29-02; 8:45 am]

BILLING CODE 3510-13-P